DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 9, 2008.

Interested persons are invited to submit written comments regarding the subject matter of the investigations to the Director, Division of Trade Adjustment Assistance, at the address shown below, not later than June 9, 2008.

The petitions filed in this case are available for inspection at the Office of the Director, Division of Trade Adjustment Assistance, Employment and Training Administration, U.S. Department of Labor, Room C-5311, 200 Constitution Avenue, NW., Washington, DC 20210.

Signed at Washington, DC, this 21st day of May 2008.
Erin FitzGerald,
Acting Director, Division of Trade Adjustment Assistance.

Appendix
[TAA petitions instituted between 5/12/08 and 5/16/08]
TA-W | Subject firm (petitioners) | Location | Date of institution | Date of petition
63362 | Mavrick Metal Stamping, Inc. (State) | Mancelona, MI | 05/12/08 | 04/24/07
63363 | Times Fiber Communications (Comp) | Chatham, VA | 05/12/08 | 05/09/08
63364 | Domtar Industries, Inc. (Comp) | Nekoosa, WI | 05/12/08 | 05/09/08
63365 | Pentair Filtration, Inc. (IUECWA) | Sheboygan, WI | 05/12/08 | 05/09/08
63366 | Tetra Pak (State) | Minneapolis, MN | 05/12/08 | 05/09/08
63367 | Novatech Electro Luminescent (State) | Chino, CA | 05/12/08 | 05/06/08
63368 | Eco Building Systems/Oxford Homes (Wkrs) | Oxford, ME | 05/12/08 | 05/09/08
63369 | Wisconsin Die Casting (Comp) | Milwaukee, WI | 05/12/08 | 04/28/08
63370 | Ranger Ind. Inc. (Wkrs) | Tinton Falls, NJ | 05/12/08 | 05/06/08
63371 | Sumitomo Electric Wintec America (Comp) | Edmonton, KY | 05/12/08 | 05/09/08
63372 | Frank L. Wells Company/Wellsco Controls, Inc. (Wkrs) | Kenosha, WI | 05/13/08 | 05/12/08
63373 | The Stinehour Press, LLC (Comp) | Lunenburg, VT | 05/13/08 | 05/12/08
63374 | Mount Vernon Mills, Trion Denim Mill (State) | Trion, GA | 05/13/08 | 05/12/08
63375 | Boston Coach (Wkrs) | Everett, MA | 05/13/08 | 05/09/08
63376 | Oxford Furniture Company, Inc. (Wkrs) | Ecru, MS | 05/13/08 | 05/06/08
63377 | Agilent Technologies (State) | Santa Rosa, CA | 05/14/08 | 05/12/08
63378 | SL Montevideo Technology, Inc. (State) | Montevideo, MN | 05/14/08 | 05/09/08
63379 | Plastech (State) | Shreveport, LA | 05/14/08 | 05/12/08
63380 | La-z-Boy Utah of LZB Manufacturing, Inc. (Comp) | Tremonton, UT | 05/14/08 | 05/13/08
63381 | Merix Forest Grove (State) | Forest Grove, OR | 05/14/08 | 05/12/08
63382 | Stanley/National (Wkrs) | Sterling, FL | 05/14/08 | 05/08/08
63383 | WT Solutions (Wkrs) | St. Johnsbury, VT | 05/14/08 | 05/05/08
63384 | Invensys Appliance Controls (Wkrs) | West Plains, MO | 05/14/08 | 05/01/08
63385 | Cadence Innovation (Wkrs) | Troy, MI | 05/14/08 | 05/12/08
63386 | Carm Newsome Hosiery, Inc. (Comp) | Fort Payne, AL | 05/15/08 | 04/30/08
63387 | Todco Division (Wkrs) | Fresno, CA | 05/15/08 | 05/14/08
63388 | The News and Observer Publishing Company (Comp) | Raleigh, NC | 05/15/08 | 05/14/08
63389 | The Apparel Group/Chaseline (Wkrs) | Reidsville, NC | 05/15/08 | 05/12/08
63390 | Hickory Business Furniture, Inc. (Wkrs) | Hickory, NC | 05/15/08 | 05/14/08
63391 | Pope and Talbot (AFLCIO) | Halsey, OR | 05/15/08 | 05/13/08
63392 | First American Real Estate Tax Service (Wkrs) | Exton, PA | 05/15/08 | 05/12/08
63393 | Fawn Plastics (Comp) | Middlesex, NC | 05/15/08 | 05/14/08
63394 | Serigraph, Inc. (Wkrs) | West Bend, WI | 05/16/08 | 05/13/08
63395 | Connector Products (Rep) | Rolling Meadows, IL | 05/16/08 | 05/15/08
63396 | Panasonic Electronic Devices Corporation of America (Comp) | Knoxville, TN | 05/16/08 | 05/15/08
63397 | Skyline Corporation (State) | Bossier City, LA | 05/16/08 | 05/12/08
63398 | Chromalox (Comp) | Orfordville, WI | 05/16/08 | 05/14/08
63399 | Kik Custom Products, Inc. (Comp) | Cumberland, RI | 05/16/08 | 05/12/08
63400 | Gateway, Inc. (Comp) | North Sioux City, SD | 05/16/08 | 05/14/08

[FR Doc. E8-11901 Filed 5-28-08; 8:45 am]

BILLING CODE 4510-FN-P